DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its Exchange/Sale Report, Excess Personal Property Furnished to Non-Federal Recipients, Agency Report of Motor Vehicle Data, Annual Motor Vehicle Fleet Report, OMB Control Number 1910-1000. This information collection request covers information necessary to prepare and submit annual property reports required by 41 CFR 102 and the Office of Management and Budget.

DATES: Comments regarding this collection must be received on or before April 1, 2010. If you anticipate that you will be submitting comments but find it difficult to do so within the period of time allowed by this notice, please advise the OMB Desk Officer of your intention to make a submission as soon as possible. The Desk Officer may be telephoned at 202-395-4650.

ADDRESSES: Written comments should be sent to:

DOE Desk Officer, Office of Information and Regulatory Affairs, Office of Management and Budget, New Executive Office Building, Room 10102, 735 17th Street, NW., Washington, DC 20503; and to:

Helene Mattiello, Industrial Property Management Specialist, MA-632/L'Enfant Plaza Building, U.S. Department of Energy, Washington, DC 20585-1615, helene.mattiello@hq.doe.gov.

FOR FURTHER INFORMATION CONTACT: Helene Mattiello, at the above address, or by telephone at (202) 287-1593, or by fax at (202) 287-1656.

The Exchange/Sale report form can be found at the following link: http://www.gsa.gov/gsa/cm_attachments/GSA_DOCUMENT/FMR_Bulletin-B-5_attachA_R24T4-k_0Z5RDZ-i34K-pR.doc.

The Excess Personal Property Furnished to Non-Federal Recipients form can be found at the following link: http://www.gsa.gov/gsa/cm_attachments/GSA_DOCUMENT/FMR_Bulletin-B-5_attachB_R24T4-k_0Z5RDZ-i34K-pR.doc.

SUPPLEMENTARY INFORMATION: This information collection request contains: (1) OMB No. 1910-1000; (2) Information Collection Request Title: Exchange/Sale Report, Excess Personal Property Furnished to Non-Federal Recipients, Agency Report of Motor Vehicle Data, Annual Motor Vehicle Fleet Report; (3) Purpose: The information being collected is data required in order to submit annual personal property reports as required by 41 CFR 102 and the Office of Management and Budget. (4) Estimated Number of Respondents: 176 annually. (5) Estimated Total Burden Hours: 2,552. (6) Number of Collections: 176. The information collection request contains 27 information and/or recordkeeping requirements.

Statutory Authority: 41 CFR 102-39.75, 41 CFR 102-36.295 and 102-36.300, 41 CFR 102-34.335, OMB Circular A-11 Section 25.5.

Issued in Washington, DC, on February 24, 2010.
Edward R. Simpson,
Director, Office of Procurement and Assistance Management, Department of Energy.

[FR Doc. 2010-4315 Filed 3-1-10; 8:45 am]

BILLING CODE 6450-01-P